DEPARTMENT OF COMMERCE

International Trade Administration

[A-570-831]

Fresh Garlic From the People's Republic of China: Postponement of Time Limits for Preliminary Results of New-Shipper Antidumping Review

AGENCY: Import Administration, International Trade Administration, Department of Commerce.

ACTION: Notice of Postponement of Time Limits for Preliminary Results of New-Shipper Antidumping Duty Review.

EFFECTIVE DATE: March 14, 2001.

FOR FURTHER INFORMATION CONTACT: Hermes Pinilla or Richard Rimlinger, Import Administration, International Trade Administration, U.S. Department of Commerce, 14th Street and Constitution Avenue, NW., Washington, DC 20230; telephone: (202) 482-3477 and (202) 482-4477, respectively.

The Applicable Statute

Unless otherwise indicated, all citations to the Tariff Act of 1930, as amended (the Act) are to the provisions effective January 1, 1995, the effective date of the amendments made to the Act by the Uruguay Round Agreements Act. In addition, unless otherwise indicated, all citations to the Department of Commerce's regulations are to 19 CFR part 351 (2000).

Background

In a letter dated November 29, 2000, as amended on December 7, 2000, the Department of Commerce (the Department) received a request from Clipper Manufacturing Ltd. (Clipper) to conduct a new-shipper review of the antidumping duty order on fresh garlic from the People's Republic of China (PRC) pursuant to 19 CFR 351.214. On January 3, 2001 (66 FR 350), the Department initiated the new-shipper antidumping administrative review covering the period June 1, 2000, through November 30, 2000. The preliminary antidumping duty results in the new-shipper review were scheduled originally for June 24, 2001.

Postponement of New-Shipper Review

On February 9, 2001, the Department received a request from the petitioners, members of the Fresh Garlic Producers Association, to align the new-shipper review with the 1999/2000 administrative review of the antidumping duty order on fresh garlic from the PRC. In a letter dated February 15, 2001, Clipper Manufacturing Ltd., in accordance with 19 CFR 351.214(j)(3), agreed to waive the applicable new-shipper time limits to its new-shipper review so that the Department could conduct the new-shipper review concurrently with the 1999/2000 administrative review of the order. Therefore, pursuant to the petitioners' request and the respondent's waiver, and in accordance with the regulations, we are conducting this review concurrently with the 1999/2000 administrative review of the order on fresh garlic from the PRC. As a result, the date of preliminary antidumping duty results in the new-shipper review will now be August 2, 2001, and the date of final antidumping duty results in the new-shipper review will be November 30, 2001.

This notice is published in accordance with section 751(a)(2)(B) of the Act and 19 CFR 351.214(j)(3).

Dated: March 6, 2001.
Richard W. Moreland,
Deputy Assistant Secretary, AD/CVD Enforcement I.

[FR Doc. 01-6360 Filed 3-13-01; 8:45 am]

BILLING CODE 3510-DS-P